UNITED STATES INTERNATIONAL TRADE COMMISSION

[USITC SE-14-022]

Government In The Sunshine Act Meeting Notice

AGENCY HOLDING THE MEETING: United States International Trade Commission.

TIME AND DATE: June 27, 2014 at 11:00 a.m.

PLACE: Room 101, 500 E Street SW., Washington, DC 20436, Telephone: (202) 205-2000.

STATUS: Open to the public.

MATTERS TO BE CONSIDERED:

1. Agendas for future meetings: None

2. Minutes

3. Ratification List

4. Vote in Inv. Nos. 701-TA-415 and 731-TA-933-934 (Second Review) (Polyethylene Terephthalate (PET) Film from India and Taiwan). The Commission is currently scheduled to complete and file its determinations and views of the Commission on July 11, 2014.

5. Outstanding action jackets: None

In accordance with Commission policy, subject matter listed above, not disposed of at the scheduled meeting, may be carried over to the agenda of the following meeting.

By order of the Commission.
Issued: June 17, 2014.
Jennifer D. Rohrbach,
Supervisory Attorney.

[FR Doc. 2014-14557 Filed 6-18-14; 11:15 am]

BILLING CODE 7020-02-P